FEDERAL TRADE COMMISSION

Agency Information Collection Activities; Submission for OMB Review; Comment Request

AGENCY: Federal Trade Commission (“Commission” or “FTC”).

ACTION: Notice.

SUMMARY: The FTC plans to conduct a consumer study to evaluate alternatives to the current disclosures required for most consumer lamp (i.e., light bulb) products. The Commission is examining the effectiveness of current light bulb package labeling as directed by Congress. Before conducting this study, the FTC is seeking public comments on the proposed study pursuant to the Paperwork Reduction Act (“PRA”).

DATES: Comments must be received on or before March 23, 2009.

ADDRESSES: The Commission invites interested parties to submit written comments electronically or in paper form. Comments should refer to “Lamp Labeling Study, Project No. P084206” to facilitate the organization of comments. Please note that comments will be placed on the public record of this proceeding—including on the publicly accessible FTC website, at (http://www.ftc.gov/os/publiccomments.shtm) — and, therefore, should not include any sensitive or confidential information. In particular, comments should not include any sensitive personal information, such as an individual’s Social Security Number; date of birth; driver’s license number or other state identification number, or foreign country equivalent; passport number; financial account number; or credit or debit card number. Comments also should not include any sensitive health information, such as medical records or other individually identifiable health information. In addition, comments should not include any “[t]rade secrets and commercial or financial information obtained from a person and privileged or confidential. . . .,” as provided in Section 6(f) of the FTC Act, 15 U.S.C. 46(f), and FTC Rule 4.10(a)(2), 16 CFR 4.10(a)(2). Comments containing material for which confidential treatment is requested must be filed in paper form, must be clearly labeled “Confidential,” and must comply with FTC Rule 4.9(c).¹

¹ FTC Rule 4.2(d), 16 CFR 4.2(d). The comment must be accompanied by an explicit request for confidential treatment, including the factual and legal basis for the request, and must identify the specific portions of the comment to be withheld from the public record. The request will be granted or denied by the Commission’s General Counsel, consistent with applicable law and the public interest. See FTC Rule 4.9(c), 16 CFR 4.9(c).

Because paper mail addressed to the FTC is subject to delay due to heightened security screening, please consider submitting your comments in electronic form. Comments filed in electronic form should be submitted by using the following weblink: (https://secure.commentworks.com/ftc-lampstudy) (and following the instructions on the web-based form). To ensure that the Commission considers an electronic comment, you must file it on the web-based form at the weblink : (https://secure.commentworks.com/ftc-lampstudy). If this Notice appears at (http://www.regulations.gov/search/index.jsp), you may also file an electronic comment through that website. The Commission will consider all comments that regulations.gov forwards to it.

A comment filed in paper form should include the reference “Lamp Labeling Study, Project No. P084206” both in the text and on the envelope, and should be mailed or delivered to the following address: Federal Trade Commission, Office of the Secretary, Room H-135 (Annex J), 600 Pennsylvania Avenue, NW, Washington, DC 20580. The FTC requests that any comment filed in paper form be sent by courier or overnight service, if possible, because U.S. postal mail in the Washington area and at the Commission is subject to delay due to heightened security precautions.

All comments should additionally be submitted to: Office of Information and Regulatory Affairs of OMB, Attention: Desk Officer for the Federal Trade Commission. Comments should be submitted via facsimile to (202) 395-5167 because U.S. Postal Mail is subject to lengthy delays due to heightened security precautions.

The FTC Act and other laws the Commission administers permit the collection of public comments to consider and use in this proceeding as appropriate. The Commission will consider all timely and responsive public comments that it receives, whether filed in paper or electronic form. Comments received will be available to the public on the FTC website, to the extent practicable, at (http://www.ftc.gov/os/publiccomments.shtm). As a matter of discretion, the Commission makes every effort to remove home contact information for individuals from the public comments it receives before placing those comments on the FTC website. More information, including routine uses permitted by the Privacy Act, may be found in the FTC’s privacy policy, at (http://www.ftc.gov/ftc/privacy.shtm).

FOR FURTHER INFORMATION CONTACT: Hampton Newsome, Attorney, 202-326-2889, or Lemuel Dowdy, Attorney, 202-326-2981, Division of Enforcement, Bureau of Consumer Protection, Federal Trade Commission.

SUPPLEMENTARY INFORMATION:

I. Background

The FTC’s current rules require disclosure of energy use (in watts), light output (in lumens), and life (in hours) on packaging for most consumer lamp (light bulb) products.² In the Energy Independence and Security Act of 2007,³ Congress directed the FTC to consider the effectiveness of these lamp labeling requirements⁴ and alternative labeling disclosures. In particular, the Act calls on the Commission to consider whether alternative labeling approaches will help consumers better understand new high-efficiency lamp products and help them choose lamps that meet their needs.

² See 16 CFR Part 305.

³ See Section 321(b) of the Energy Independence and Security Act of 2007 (Pub. L. 110-140 (§ 324(a)).

⁴ The current requirements do not impose a uniform disclosure format. Instead, the labeling requirements provide manufacturers flexibility regarding the size, font, and style in which the information is presented. See 16 CFR Part 305.

As a first step toward fulfilling this mandate, the Commission published an Advance Notice of Proposed Rulemaking on July 18, 2008 (73 FR 40988) that provided background about current FTC labeling rules for light bulbs, the recent Congressional mandate, the purpose of the FTC labeling requirements, and various labeling considerations. In the Notice and at a public roundtable held on September 15, 2008, the Commission sought comment concerning the effectiveness of current labeling requirements, as well as whether labeling alternatives would help consumers in their purchasing decisions. Specifically, the Commission asked for comment on whether lamp packages should disclose characteristics such as lamp brightness, energy use, operating cost, color temperature, and lamp life. FTC staff, through its contractor, also asked a consumer focus group about various attributes of light bulb labels.⁵

⁵ A report on the seven-person focus group, prepared by FTC’s contractor, Synovate, Inc., is available at (http://www.ftc.gov/os/comments/lightbulbs/index.shtm).

The Commission also requested that commenters provide consumer research related to lighting disclosures. However, no commenters submitted or identified any recent, comprehensive consumer research. The Commission, therefore, is planning to conduct a consumer research study to aid in determining what revisions, if any, it should make to existing labeling requirements. The Commission announced this consumer research effort in a December 1, 2008 notice (73 FR 72800). The Commission received no comments in response to that notice. The Commission will use the results of these consumer research results, along with other information gathered through the roundtable and written comments, to develop proposed changes to current lamp labeling requirements. This Notice provides additional details about the proposed research, an estimate of the burden hours associated with the collection of information for that activity, and an invitation for comment on these issues.

II. FTC’s Proposed Consumer Study

The FTC proposes to collect information from consumers to gather data on the effectiveness of current lamp labels and alternative label designs. The proposed study will involve a sample of approximately 5,600 respondents who are at least 18 years old and recent or likely future light bulb purchasers.⁶ The FTC and its contractor will administer questions to the respondents online over the Internet.⁷ The study will employ standard consumer survey methodologies, including copy testing and choice experiments, to explore how different label designs impact consumer decision-making regarding the purchase of light bulb products. The study will allow the FTC to explore the performance of various label formats, the labeling preferences of the respondents, and their understanding of relevant lighting concepts.

⁶ The FTC expects to study a stratified sample of the adult United States population that is broadly representative of consumer group attributes (e.g., geographic location, housing characteristics, gender, age, education, and race/ethnicity) based on the most recent Census Bureau’s Current Population Survey and the Department of Energy’s Residential Energy Consumption Survey. The contractor will identify respondents using any relevant, preexisting data in its Internet panel database and any necessary additional screener questions. The screener questions will help to ensure that the demographic composition of the sample reasonably matches that of the target population. Allowing for non-responses, up to approximately 15,000 respondents will answer screener questions. This number of respondents should enable the FTC to obtain its target sample size of 5,600 individuals.

⁷ The FTC also will pretest the study on approximately 25 individuals to ensure that all questions are understood. The pretest participants will be drawn from the target population.

The study will use a basic label design that includes certain information disclosures on the front of the package, as well as more comprehensive label disclosures on the rear or side panel (see sample labels at the end of this Notice). The test labels on the front of the package will include four (or fewer) disclosures: light output (or “brightness”), energy (e.g., efficiency, cost), life, and color temperature. The study will explore different approaches for making these disclosures. For instance, we will test respondents’ perception of energy use disclosures displayed in the form of annual energy (operating) cost, luminous efficacy (lumens/watt), and a five-star rating system. Table 1 below contains the list of variations to be tested. Given the small size of light bulb packaging and the associated space constraints, the information that can be included on the front of the package is limited. Therefore, we are not testing complex scales or similar graphical formats that would not fit easily on the front display panel. The test label design will also include a “Lighting Facts” label on the rear or side panel. This “Lighting Facts” label is similar in appearance to the “Nutrition Facts” label required by the Food and Drug Administration. The label drafted for this study includes a variety of information disclosures such as brightness, life, energy use in watts, voltage, luminous efficacy, and energy cost.⁸

⁸ A “Lighting Facts” label also could contain additional information such as voluntary disclosures provided by the manufacturer (e.g., minimum starting temperature), and other information mandated by state or federal requirements (e.g., hazardous content disclosures or information required by the Federal Communications Commission). However, because such voluntary disclosures and state or federally mandated disclosures will vary by manufacturer and lamp technology, we are not including any such disclosures on the test labels.

As discussed in more detail below, the study will assign respondents into groups (i.e., cells), each of which will be assigned a different label design (i.e., treatment). The study will use approximately six to twelve hypothetical test light bulbs, each with different performance characteristics such as brightness, energy use, life, and color temperature. While each cell will answer the questionnaire while reviewing disclosures for all hypothetical bulbs, the label treatment will vary. The underlying questions for every respondent, however, will remain the same regardless of which label treatment they view.

A. Label Variations

The study will arrange respondents into 15 to 20 cells of approximately 300 respondents each. Respondents in each cell will view one of 15 to 20 randomly-assigned treatments. For example, one group will answer the questionnaire while viewing labels displaying the current disclosure format, while another group will view labels with an alternative format.

Examples of the variables we will use to create the treatments appear in Table 1 below, and include:

Color Temperature: The study will explore three principal ways of communicating color temperature on the front package panel. One approach involves the use of standard terms to describe color temperature such as “soft white” and “daylight.” The terms used in the study are consistent with those in existing industry consensus standards and also previous ENERGY STAR efforts.⁹ The second approach will include a label that provides information on color temperature through six color-coded boxes, similar to a system considered in previous consumer research.¹⁰ The third approach will include a basic “Cool-Warm” scale as illustrated in Example Label C at the end of this Notice. In addition to these three approaches on the front package panel, the “Lighting Facts” label, on the back panel will include information about color temperature (e.g., 2700 K).

⁹ The color temperature descriptors used in the study are based on ANSI C78.376-2001 and draft “ENERGY STAR Program Requirements for CFLs [Compact Fluorescents]” (Fourth Draft, Feb. 27, 2007) (http://www.energystar.gov/ia/partners/prod_development/revisions/downloads/cfls/Criteria_CFLs_Version4.0_draft4.pdf). The Consortium for Energy Efficiency also suggested such a system in their comments. See (http://www.ftc.gov/os/comments/lightbulbs/536795-00011.pdf). The descriptors are as follows: 2700K (“Soft White”), 3000K (“Warm White”), 3500K (“White”), 4100K (“Cool White”), 5000K (“Natural”) and 6500K (“Daylight”).

¹⁰ Leslie, R., and Rea, M., “A System for Communicating Color: What Do Consumers Think,” Lighting Research Center, Rensselaer Polytechnical Institute (http://www.lrc.rpi.edu/programs/lightingTransformation/colorCommunication/pdf/whatDoConsumersThink.pdf). The study was conducted with funding from the Department of Energy and Environmental Protection Agency.

Five-Star Efficiency Rating: The study will include some label designs that display a five-star rating system for energy efficiency as suggested by several commenters.¹¹ In assigning ratings to the test models, the study uses the rating system proposed by the Natural Resources Defense Council (NRDC).¹²

¹¹ For example, see Natural Resources Defense Council comments (http://www.ftc.gov/os/comments/lightbulbs/536795-00003.pdf); American Council for an Energy-Efficient Economy comments (http://www.ftc.gov/os/comments/lightbulbs/536795-00012.pdf); and Joint Comments from Pacific Gas and Electric Company, Southern California Edison, Sempra Energy Utilities, and Ecos Consulting comments (http://www.ftc.gov/os/comments/lightbulbs/536795-00010.pdf).

¹² See NRDC comments (http://www.ftc.gov/os/comments/lightbulbs/536795-00003.pdf). In particular, we have consulted NRDC’s proposed “Curved Efficacy Boundaries” system as illustrated in Appendix 1 of its comments. This rating system relies on luminous efficacy (lumens/watt) weighted by lumens to create five efficiency categories for lamps. For example, under this system, a typical incandescent (60-watts, 800 lumens) receives 1 star; a typical compact fluorescent (CFL) bulb (13 watts, 800 lumens) receives 4 stars; and a typical LED (light-emitting diode) bulb (7 watts, 800 lumens) receives 5 stars.

Yearly Energy Cost Information: The front package panel for some treatments will include a yearly energy cost estimate based on a 2008 national average residential electricity cost of 10.8 cents/kWh and a usage rate of 3 hours per day.¹³

¹³ See 73 FR 11406 (March 3, 2008) (DOE national average energy cost figures for 2008). Similarly, yearly bulb life information in the study will be based on a usage rate of 3 hours per day.

Watt-Equivalent Information: Several treatments will include information on the rear-panel “Lighting Facts” label that provides the brightness (in lumens) of typical incandescent bulbs at various wattages. This wattage-equivalent numbers are consistent with information provided by the ENERGY STAR program.¹⁴

¹⁴ See ENERGY STAR information at (http://www.energystar.gov/index.cfm?c=cfls.pr_cfl) (e.g., 800 lumens=60-watt incadenscent; 1110 lumens=75-watt incandescent). The disclosures of such “watt-equivalence” (i.e., the light output expressed by reference to the energy use of standard incandescent bulbs) is currently standard practice on CFL packages as manufacturers seek to help consumers understand the light output of CFLs in the context of an incandescent bulb’s energy use. Due to space constraints, the study will not test such information on the front panel. We anticipate, however, that, regardless of any final FTC labeling requirements, manufacturers of CFL’s will continue to provide information about watt-equivalence on their packaging as long as such information is useful to consumers.

TABLE 1 - Examples of Label Variables
Location/Descriptor | Variable | Variable | Variable | Variable
Front Panel-Light Output | Light Output in lumens | Brightness in lumens |  |
Front Panel-Energy | Annual energy costs | Energy efficiency in lumens/watt | Energy efficiency based on 5-star rating | Energy use in watts
Front Panel-Life | Life in years | Life in hours |  |
Front Panel-Color Temperature | Word descriptor (e.g., “soft white”“daylight”) | Six colored-coded boxes | Cool-Warm Scale |
Rear Panel | “Lighting Facts” label with watt equivalent information | “Lighting Facts” label without watt equivalent information | No information on rear panel |

B. Test Lamp Models

The study will employ six to twelve different hypothetical lamp models, each with different brightness, energy use, life, and color temperature characteristics. Several of these hypothetical models will be marked as ENERGY STAR products where the hypothetical criteria meet the ENERGY STAR criteria. The various characteristics of several hypothetical models appear in Table 2. Because we are considering a labeling approach that will convey uniform information to consumers regardless of the bulb type, the hypothetical labels will not identify the technology of the enclosed lamp (e.g., incandescent, compact fluorescent, or solid-state). However, the hypothetical characteristics (e.g., lumens, energy use, and life) of the test models will be consistent with the characteristics of available bulb technologies.

TABLE 2 - Examples of Test Models
| Lumens | Watts | Life in hours | Life in years | Yearly Energy Cost | 5 Star Energy Rating | ENERGY STAR | Lumens/Watt | Color Temp (in K) | Color Temp (name)
| 870 | 13 | 6000 | 5.5 | $1.54 | 4 | Yes | 67 | 2700 | Soft White
| 870 | 7 | 50000 | 45.7 | $0.83 | 5 | Yes | 124 | 2700 | Soft White
| 820 | 60 | 1500 | 1.4 | $7.10 | 1 | No | 14 | 2700 | Soft White
| 1690 | 100 | 750 | 0.7 | $11.83 | 2 | No | 17 | 2700 | Soft White
| 1750 | 26 | 6000 | 5.5 | $3.07 | 4 | Yes | 68 | 2700 | Soft White
| 1500 | 23 | 10000 | 9.1 | $2.72 | 4 | Yes | 65 | 3500 | White
| 1199 | 20 | 10000 | 9.1 | $2.37 | 4 | No | 60 | 6500 | Daylight
| 870 | 13 | 6000 | 5.5 | $1.54 | 4 | Yes | 67 | 4100 | Cool White
| 825 | 13 | 6000 | 5.5 | $1.54 | 4 | Yes | 63 | 6500 | Daylight

C. Questionnaire

All respondents will answer a single series of questions about the characteristics of the products described in the labels and their preferences pertaining to those products. The questionnaire also will seek information about respondents’ understanding of different lighting concepts such as lumens (i.e., light output) and color temperature (i.e., the color characteristics of a light source). Finally, the study will seek to gauge whether respondents have preferences regarding how certain types of information are communicated.¹⁵

¹⁵ The study also will contain questions related to respondents’ experiences with current light bulb labels.

Specifically, the issues to be addressed by the questionnaire include:

Usefulness of current labeling: For some treatments, respondents who are recent lamp purchasers will answer questions about whether they can remember seeing information on light bulb packages and the usefulness of that information in their purchasing decisions.

Brightness (Light Output): Respondents will answer questions about the brightness (i.e., light output) of different lamps after viewing different package labels.

Energy Use: Respondents will answer questions about the relative energy use of different products after viewing side-by-side comparisons of their packaging.

Color temperature: Respondents will answer questions about the correlated color temperature of different lamps (i.e., the light emitted by different lamps) after viewing different package labels.

ENERGY STAR interaction: Respondents will be asked to identify ENERGY STAR lamps after comparing different lamp labels.¹⁶

¹⁶ For the purposes of the study, it will be assumed that high efficiency bulbs consistent with LED performance qualify for ENERGY STAR even though the ENERGY STAR program has not finalized criteria for LED bulbs at this time.

Credibility questions: Respondents will be asked whether they find certain information on packages believable.

Willingness to pay questions: Respondents will provide information on their willingness to pay for models of varying energy use.

Quality perception questions: Respondents will be asked questions related to possible quality differences between bulbs that use different amounts of energy. In particular, the study will explore whether respondents incorrectly interpret certain types of energy use disclosures as indicia of product quality (e.g., workmanship, performance).

Usefulness of disclosures: Respondents will be asked to gauge the usefulness of different types of information (e.g., life, color temperature, etc.) in their purchasing decisions.

Usefulness of disclosure formats: Respondents will answer questions about whether they find specific types of disclosures useful (e.g., energy cost, five-stars, or lumens/watt).

The study results will allow the FTC to compare the effectiveness of various label approaches. In analyzing the results, the FTC will conduct a statistical comparison of respondent answers across different test label components. If there are differences in accuracy rates for particular label approaches, the direction and statistical significance of these differences will aid the FTC in assessing whether one type of label design is more comprehensible than alternative designs. The FTC will use the study results in conjunction with other information generated during this rulemaking proceeding to develop and propose changes to existing labeling requirements, if such changes are warranted.

III. Estimated Burden Hours¹⁷

¹⁷ Fractional hours are rounded up to the next whole number.

The Commission estimates that the cumulative total burden hours for the study will be approximately 2,972 hours. This total estimate is derived as follows. First, the FTC plans to conduct a pretest of 25 persons that will take approximately 30 minutes on average per person, resulting in approximately 13 burden hours (25 respondents x 30 minutes). Second, once the pretest is complete, the FTC and its contractor will ask screener questions of approximately 15,000 respondents in order to obtain the FTC’s target sample size of 5,600 individuals. The FTC estimates that it will take respondents one minute to respond to the screener questions. Thus, the total burden related to the screener questions will be approximately 250 hours (15,000 respondents x 1 minute). Finally, those respondents who pass the screener questions will answer the entire questionnaire. Using a conservative estimate of 6,500 individuals,¹⁸ the FTC further estimates that participating in the study will require an additional 2,709 hours (6,500 respondents x 25 minutes). Finally, the cost per respondent should be negligible. Participation is voluntary and will not require start-up, capital, or labor expenditures by respondents.

¹⁸ Although the target sample is 5,600 individuals, the procedures used by the contractor may result in the collection of information from a slightly higher number of individuals.

IV. Request for Comment

As required by Section 3506(c)(2)(A) of the PRA, 44 U.S.C. 3501-3521, the FTC is providing this opportunity for public comment before requesting Office of Management and Budget (“OMB”) approval of information collection activities associated with the study. Under the PRA, federal agencies must obtain OMB approval for each collection of information they conduct or sponsor. “Collection of information” means agency requests or requirements that members of the public submit reports, keep records, or provide information to a third party. 44 U.S.C. 3502(3); 5 CFR 1320.3(c).

Specifically, the FTC invites comments on: (1) whether the proposed collection of information is necessary for the proper performance of the functions of the FTC, including whether the information will have practical utility; (2) the accuracy of the FTC’s estimate of the burden of the proposed collection of information; (3) ways to enhance the quality, utility, and clarity of the information to be collected; and (4) ways to minimize the burden of collecting information on those who respond, including through the use of appropriate automated, electronic, mechanical, or other technological collection techniques or other forms of information technology, e.g., permitting electronic submission of responses. All comments should be filed as prescribed in the ADDRESSES section above, and must be received on or before March 23, 2009.

BILLING CODE 6750-01-S

David C. Shonka
Acting General Counsel

[FR Doc. E9-3645 Filed 2-19-09: 8:45 am]

BILLING CODE 6750-01-C